DEPARTMENT OF STATE

[Public Notice 5295]

Advisory Committee on Private International Law

SUMMARY: The Advisory Committee's study group on secured finance will hold a meeting in New York City on February 27 from 10 a.m. until 2 p.m. EST to review proposed recommendations for legislative reform on secured finance law under consideration by the United Nations Commission on International Trade Law (UNCITRAL). The meeting will examine in particular proposals concerning security interests in independent undertakings, such as letters of credit; bank accounts; and, time permitting, negotiable instruments.

Background

UNCITRAL is preparing draft recommendations for countries that wish to upgrade their secured finance laws. This effort has been in progress since 2002, and has examined various approaches to secured finance law, including Uniform Commercial Code Article 9 (secured interests). The Commission will seek to balance the various proposals, and its Working Group on Secured Finance will meet to continue that process at the UN in New York during the first week of February 2006. The Department of State's Advisory Committee on Private International Law (ACPIL) will examine documents discussed at or revised during or after that meeting. The Advisory Committee offers an opportunity for interested members of the public or entities, associations, etc., to comment both on these developments and to make recommendations for future proposals.

Agenda

The Advisory Committee's Study group agenda tentatively will cover current developments in international secured finance, and in particular proposals concerning the intersection of secured financing law and law covering independent undertakings such as letters of credit; bank accounts; and, time permitting, negotiable instruments.

Public Participation

Advisory Committee Study group meetings are open to the public. The meeting will be held at the offices of Bingham McCutchenn LLP at 399 Park Avenue, New York City, conference room 21C. Persons wishing to attend need to provide in advance their name, address, contact numbers, including email addresses if available, and affiliation(s) if any to Jake Sullivan at 617-951-8613 or at jake.sullivan@bingham.com, not later than February 20. Persons who cannot attend but who wish to comment on any of the topics referred to are welcome to do so in writing.

DOCUMENTS on this project are obtainable at http://www.Uncitral.org/ Working Groups/Working Group VI on secured finance. Additional documents may be available following the UN Working Group's meeting in early February, which may be obtained from Mr. Sullivan. For further information on UNCITRAL or the project generally please contact Hal Burman at the State Department at BurmanHS@State.gov. or 202-776-8421, fax 776-8482.

Dated: January 26, 2006.
Harold S. Burman,
Advisory Committee Executive Director, Department of State.

[FR Doc. E6-1483 Filed 2-2-06; 8:45 am]

BILLING CODE 4710-08-P